DEPARTMENT OF LABOR

Employment and Training Administration

[TA-W-37,047]

Marathon Ashland Pipe Line, LLC Bridgeport, IL; Notice of Negative Determination of Reconsideration on Remand

The United States Court of International Trade (USCIT) granted the Secretary of Labor's motion for a voluntary remand for further investigation in Marathon Ashland Pipe Line LLC v. Alexis Herman U.S. Secretary of Labor, No. 00-04-00171.

The Department's initial denial for the workers transporting crude oil and petroleum products at Marathon Ashland Pipe Line, LLC, Bridgeport, Illinois, issued on December 2, 1999, and published in the Federal Register on December 28, 1999 (64 FR 72691), was based on the finding that the group eligibility requirements of section 222 of the Trade Act of 1974, as amended, were not met.

The petitioners request for reconsideration resulted in a negative determination regarding the application which was issued on February 11, 2000, and was published in the Federal Register on February 22, 2000 (64 FR 8743). The Department's findings affirmed that the workers were providing a service and were not producing an article.

On remand, in order to determine if the worker group supported crude oil production of the parent company, the Department contacted officials of Marathon Ashland Pipe Line LLC, to obtain additional information regarding the transportation of articles produced by the parent company, Marathon Oil Company, Inc. The investigation on remand revealed that in 1997, 1998 and in the January through March months of 1998 and 1999, Marathon Ashland Pipe Line Company did not transport via pipeline any articles produced by the parent company, Marathon Oil Company, Inc.

Investigation findings on remand show that in 1997, the parent company purchased crude oil at the lease (Illinois Basin) that was transported by Marathon Pipe Line Company. In 1998, Marathon Ashland Petroleum LLC was formed and it purchased crude from the lease which it transported via the pipe line. In 1999, Marathon Ashland Petroleum LLC did not purchase from the lease.

Conclusion

After reconsideration on remand, I affirm the original notice of negative determination of eligibility to apply for adjustment assistance for workers and former workers of Marathon Ashland Pipe Line, LLC, Bridgeport, Illinois.

Signed at Washington, DC this 20th day of August 2001.
Linda G. Poole,
Certifying Officer, Division of Trade Adjustment Assistance.

[FR Doc. 01-26041 Filed 10-16-01; 8:45 am]

BILLING CODE 4510-30-M